DEPARTMENT OF COMMERCE

International Trade Administration

[A-427-814]

Notice of Extension of Time Limit for the Preliminary Results of the Antidumping Duty Administrative Review: Stainless Steel Sheet and Strip in Coils from France

AGENCY: Import Administration, International Trade Administration, Department of Commerce.

ACTION: Notice of extension of time limit for the preliminary results of the antidumping duty administrative review of stainless steel sheet and strip in coils from France.

SUMMARY: On September 6, 2000, the Department of Commerce (“Department”) published a notice of initiation of an antidumping duty review of stainless steel sheet and strip in coils from France. The Department of Commerce (“Department”) is extending the time limit for the preliminary results of the review, which covers the period January 4, 1999 through June 30, 2000.

EFFECTIVE DATE: June 19, 2001.

FOR FURTHER INFORMATION CONTACT: Robert Bolling at 202-482-0409; Import Administration, International Trade Administration, U.S. Department of Commerce, 1401 Constitution Avenue, NW., Washington, DC 20230.

SUPPLEMENTARY INFORMATION:

The Applicable Statute and Regulations

Unless otherwise indicated, all citations to the Tariff Act of 1930, as amended (“Act”), are references to the provisions effective January 1, 1995, the effective date of the amendments made to the Act by the Uruguay Round Agreements Act. In addition, unless otherwise indicated, all citations to the Department's regulations are to the regulations codified at 19 CFR Part 351 (2001).

Extension of Time Limit for Preliminary Results

On September 6, 2000, the Department published its notice of initiation of an antidumping duty review of the antidumping duty order on stainless steel sheet and strip in coils from France. See Initiation of Antidumping and Countervailing Duty Administrative Reviews and Requests for Revocation in Part, 65 FR 53980, 53981 (September 6, 2000). On January 25, 2001, the Department published its notice partially extending the time limit for the preliminary results of the review by 90 days. See Extension of Time Limit for the Preliminary Results of the Antidumping Duty Administrative Review: Stainless Steel Sheet and Strip in Coils from France, 66 FR 7738 (January 25, 2001). Under section 751(a)(3)(A) of the Act, the Department may extend the deadline for completion of the preliminary results of a review if it determines that it is not practicable to complete the preliminary results within the statutory time limit of 245 days after the date on which the review is initiated. The Department has determined that it is not practicable to complete the preliminary results of the review within that statutory time limit. See Memorandum from Edward C. Yang to Joseph A. Spetrini (June 12, 2001).

Therefore, in accordance with section 751(a)(3)(A) of the Act, the Department is extending the time limit for the preliminary results by 30 days until July 31, 2001.

Dated: June 12, 2001.
Edward C. Yang,
Acting Deputy Assistant Secretary, AD/CVD Enforcement Group III.

[FR Doc. 01-15425 Filed 6-18-01; 8:45 am]

BILLING CODE 3510-DS-P